DEPARTMENT OF THE INTERIOR

National Park Service

[NPS-WASO-NAGPRA-NPS0028961; PPWOCRADN0-PCU00RP14.R50000]

Notice of Intent To Repatriate Cultural Items: Colgate University, Longyear Museum of Anthropology, Hamilton, NY

AGENCY: National Park Service, Interior.

ACTION: Notice.

SUMMARY: The Longyear Museum of Anthropology, in consultation with the appropriate Indian Tribes or Native Hawaiian organizations, has determined that the cultural item listed in this notice meets the definition of a sacred object and an object of cultural patrimony. Lineal descendants or representatives of any Indian Tribe or Native Hawaiian organization not identified in this notice that wish to claim this cultural item should submit a written request to the Longyear Museum of Anthropology. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Longyear Museum of Anthropology at the address in this notice by November 8, 2019.

ADDRESSES: Kaytlynn Lynch, Longyear Museum of Anthropology, 13 Oak Drive, Hamilton, NY 13346, telephone (315) 228-6643, email kelynch@colgate.edu.

SUPPLEMENTARY INFORMATION: Notice is here given in accordance with the Native American Graves Protection and Repatriation Act (NAGPRA), 25 U.S.C. 3005, of the intent to repatriate a cultural item under the control of the Longyear Museum of Anthropology, Hamilton, NY, that meets the definition of sacred object and object of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

The object is a miniature false face mask or medicine mask. During the early 1900s, Hope Emily Allen (1883-1960) received the mask as a gift from a member of the Oneida Indian Nation, and added it to her own personal collection. This collection was posthumously sold to the Longyear Museum of Anthropology by her sister-in-law, Florence Allen, in 1962.

The evidence from museum records, scholarly publications, and information provided during consultation indicates that false face masks are not only sacred objects used in the performance of medicinal ceremonies, but are also considered objects of cultural patrimony that have ongoing historical, traditional, and cultural significance to the group. Based on provenance, this false face mask is considered to be culturally affiliated to the Oneida Indian Nation (previously listed as the Oneida Nation of New York).

Determinations Made by the Longyear Museum of Anthropology

Officials of the Longyear Museum of Anthropology have determined that:

• Pursuant to 25 U.S.C. 3001(3)(C), the one cultural item described is a specific ceremonial object needed by traditional Native American religious leaders for the practice of traditional Native American religions by their present-day adherents.

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the sacred object/object of cultural patrimony and the Oneida Indian Nation (previously listed as the Oneida Nation of New York).

Additional Requestors and Disposition

Lineal descendants or representatives of any Indian Tribe or Native Hawaiian organization not identified in this notice who wish to claim these cultural items should submit a written request with information in support of the claim to Kaytlynn Lynch, Longyear Museum of Anthropology, 13 Oak Drive, Hamilton, NY 13346, telephone (315) 228-6643, email kelynch@colgate.edu, by November 8, 2019. After that date, if no additional claimants have come forward, transfer of control of the sacred object to the Oneida Indian Nation (previously listed as the Oneida Nation of New York) may proceed.

The Longyear Museum of Anthropology is responsible for notifying the Oneida Indian Nation (previously listed as the Oneida Nation of New York) that this notice has been published.

Dated: September 20, 2019
Melanie O'Brien,
Manager, National NAGPRA Program.

[FR Doc. 2019-22049 Filed 10-8-19; 8:45 am]

BILLING CODE 4312-52-P